ENVIRONMENTAL PROTECTION AGENCY

[EPA-HQ-OPP-2008-0525; FRL-8398-4]

Carbaryl; Amending Product Registrations to Terminate Uses and Eliminate Certain Application Methods

AGENCY: Environmental Protection Agency (EPA).

ACTION: Notice.

SUMMARY: This notice announces EPA's order for the amendments to terminate uses and eliminate certain application methods, voluntarily requested by the registrants and accepted by the Agency, of products containing the pesticide carbaryl, pursuant to section 6(f)(1) of the Federal Insecticide, Fungicide, and Rodenticide Act (FIFRA), as amended. This order follows two Federal Register Notices of Receipt of Requests dated August 20, 2008 and October 15, 2008, respectively, from the carbaryl registrants to voluntarily terminate certain uses of and eliminate certain application methods for their carbaryl product registrations. These are not the last carbaryl products registered for use in the United States. In the August 20 and October 15, 2008 Notices, EPA indicated that it would issue an order implementing the amendments to terminate uses, unless the Agency received substantive comments within the 30-day comment period that would merit its further review of these requests, or unless the registrants withdrew their requests within this period. The Agency received five comments on the notice but none merited further review of the requests. Further, the registrants did not withdraw their requests. Accordingly, EPA hereby issues in this notice an order granting the requested amendments to terminate uses and eliminate certain application methods. Any distribution, sale, or use of the carbaryl products subject to this order is permitted only in accordance with the terms of this order, including any existing stocks provisions.

DATES: The termination of uses and elimination of application methods for carbaryl products specified in this notice are effective April 17, 2009.

FOR FURTHER INFORMATION CONTACT: Christina Scheltema, Special Review and Reregistration Division (7508P), Office of Pesticide Programs, Environmental Protection Agency, 1200 Pennsylvania Ave., NW., Washington, DC 20460-0001; telephone number: (703) 308-2201; fax number: (703) 308-8005; e-mail address: scheltema.christina@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0525. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the amendment to terminate uses and eliminate certain application methods for carbaryl products, as requested by registrants, of certain end-use and/or manufacturing-use carbaryl products registered under section 3 of FIFRA. These registrations are listed in sequence by registration number in Tables 1 and 2 of this unit.

Table 1—Carbaryl Product Registrations Amended to Terminate Uses or Eliminate Certain Application Methods
EPA Registration Number | Product Name | Uses Being Terminated and/or Application Methods Being Eliminated
239-1349 | Ortho Sevin® 5 Dust | Poultry and poultry premises; domestic pets and premises
239-2181 | Ortho Sevin® Garden Dust | Domestic Pets and Premises; succulent/fresh beans and peas (subgroup 6B)
239-2514 | Get-A-Bug Snail, Slug and Insect Killer | Succulent/fresh beans and peas (subgroup 6B); leafy vegetables (except Brassica vegetables)
239-2628 | Ortho Sevin® Liquid Brand Carbaryl Insecticide Formula II | Succulent/fresh beans and peas (subgroup 6B); poultry and poultry premises
264-315 | Sevin® Brand 85 Sprayable Carbaryl Insecticide | Pea and bean, succulent shelled (subgroup 6B); millet; wheat; preplant root dip for sweet potato; dip drench for nursery stock, vegetable transplants, bedding plants, and foliage plants; ULV application for adult mosquito control; outdoor pet sleeping quarters
264-316 | SEVIN® 80 Solupak | Pea and bean, succulent shelled (subgroup 6B); millet; wheat; preplant root dip for sweet potato; dip/drench for nursery stock, vegetable transplants, bedding plants, and foliage plants; ULV application for adult mosquito control ; outdoor pet sleeping quarters
264-328 | Sevin® Brand 80%Dust Base | Agricultural uses
264-333 | SEVIN® brand XLR PLUS Carbaryl Insecticide | Pea and bean, succulent shelled (subgroup 6B); millet; wheat; preplant root dip for sweet potato; dip/drench for nursery stock, vegetable transplants, bedding plants, and foliage plants; ULV application for adult mosquito control; outdoor pet sleeping quarters
264-334 | SEVIN® brand RP2 Carbaryl Insecticide | Pea and bean, succulent shelled (subgroup 6B); preplant root dip for sweet potato; outdoor pet sleeping quarters; liquid broadcast use for residential lawns
264-335 | SEVIN® brand RP4 Carbaryl Insecticide | Pea and bean, succulent shelled (subgroup 6B); millet; wheat; preplant root dip for sweet potato; preplant root dip/drench for nursery stock, vegetable transplants, bedding plants, and foliage plants; ULV application for adult mosquito control; outdoor pet sleeping quarters; liquid broadcast use for residential lawns
264-349 | SEVIN® brand 4F Carbaryl Insecticide | Pea and bean, succulent shelled (subgroup 6B); millet; wheat; preplant root dip for sweet potato; preplant root dip/drench for nursery stock, vegetable transplants, bedding plants, and foliage plants; ULV application for adult mosquito control; outdoor pet sleeping quarters
264-429 | SEVIN® brand Granular Carbaryl Insecticide | Leafy vegetables (except Brassica)
264-526 | SEVIN® brand 80 WSP Carbaryl Insecticide | Pea and bean, succulent shelled (subgroup 6B); millet; wheat; preplant root dip for sweet potato; preplant root dip/drench for nursery stock, vegetable transplants, bedding plants, and foliage plants; ULV application for adult mosquito control; outdoor pet sleeping quarters
432-885 | SEVIN® Brand Granular Carbaryl Insecticide | Leafy vegetables (except Brassica)
432-982 | SEVIN® Brand 97.5% Insecticide | Pea and bean, succulent shelled (subgroup 6B); preplant root dip/ drench treatment for nursery stock, vegetable transplants, bedding plants, and foliage plants
432-1211 | AES Carbaryl Insecticide Spray, RTU | Pea and bean, succulent shelled (subgroup 6B)
432-1212 | SEVIN® Grub Killer Granules | Leafy vegetables (except Brassica); pea and bean, succulent shelled (subgroup 6B)
432-1213 | SEVIN® Granules Ant, Flea, Tick, and Grub Killer | Leafy vegetables (except Brassica); pea and bean, succulent shelled (subgroup 6B)
432-1226 | SEVIN® 40WSP Carbaryl Insecticide | Preplant root dip/drench for nursery stock, vegetable transplants, bedding plants, and foliage plants; outdoor pet sleeping quarters; liquid broadcast use on residential lawns
432-1227 | SEVIN® SL Carbaryl Insecticide | Outdoor pet sleeping quarters; liquid broadcast use on residential lawns
432-1237 | BES Garden Dust 10% | Pea and bean, succulent shelled (subgroup 6B)
432-1238 | AES Carbaryl Insecticide Spray-RTU | Pea and bean, succulent shelled (subgroup 6B)
432-1239 | BES Garden Dust 5% | Bean succulent shelled
432-1244 | AES SEVIN® Granules Ant, Flea, Tick, and Grub Killer (1% Sevin) | Leafy vegetables (except Brassica)
769-574 | Suregard Brand Sevin® 80S Carbaryl Insecticide | Pea and bean, succulent shelled (subgroup 6B); preplant root dip (sweet potato); wheat
769-728 | Sevin® Brand Carbaryl Insecticide 5% Turf Insecticide Granules | Pea and bean, succulent shelled (subgroup 6B); leafy vegetables (except Brassica)
769-971 | Sevin® Brand 80% DB | Pea and bean, succulent shelled (subgroup 6B); preplant root dip (sweet potato); use of dust formulations in/on agricultural crops; wheat
769-972 | Security Brand 50% Sevin® Wettable | Pea and bean, succulent shelled (subgroup 6B)
769-976 | Sevin® Brand Carbaryl Insecticide 2% Granular Insecticide | Leafy vegetables (except Brassica)
829-128 | SA-50 Brand Sevin® 5% Dust | Direct application to domestic pets or dwellings; Succulent/fresh peas and beans (subgroup 6B); all agricultural uses
829-285 | Cutworm and Cricket Bait | Succulent/fresh peas and beans (subgroup 6B); leafy vegetables (except Brassica vegetables)
2935-366 | Wilbur-Ellis Sevin® 5 Bait | Wheat; peas and beans, succulent or fresh (subgroup 6B); leafy vegetables (except Brassica vegetables)
5887-43 | Black Leaf Sevin® Brand Carbaryl Insecticide | Pea and bean, succulent shelled (subgroup 6B); direct applications to domestic animals (dogs and cats) and their dwellings/premises
5905-251 | Helena Sevimol 4 Carbaryl Insecticide | Pea and bean, succulent shelled (subgroup 6B)
7401-38 | Ferti-Lome Liquid Sevin® Home Garden Spray | Pea and bean, succulent (fresh) shelled (subgroup 6B)
7401-69 | Ferti-Lome Garden Dust | Pea and bean, succulent (fresh) shelled (subgroup 6B); direct applications to domestic pets or pet premises (indoor or outdoor)
7401-166 | Hi-Yield 10% Carbaryl Garden Dust | Pea and bean, succulent (fresh) shelled (subgroup 6B); domestic pets or pet premises (indoor or outdoor)
8119-5 | Corry's Slug, Snail and Insect Killer | Leafy vegetables (except Brassica)
9198-146 | The Andersons 8.0% Granular Carbaryl | Peas and beans, succulent or fresh (subgroup 6B); leafy vegetables (except Brassica)
9198-223 | The Andersons Insect Killer Granules with 2.0% Carbaryl | Peas and beans, succulent or fresh (subgroup 6B); leafy vegetables (except Brassica)
11656-21 | Coastox Carbaryl Cutworm Bait | Pea and bean, succulent shelled (subgroup 6B); leafy vegetables (except Brassica)
19713-49 | Drexel Carbaryl 4L | Succulent beans and peas; preplant dip for sweet potato; wheat; millet; dip or drench treatment to nursery stock or transplants, etc; indoor uses; ULV mosquito adulticide; all applications using backpack sprayers
19713-50 | Drexel Carbaryl 80S | Succulent beans and peas; preplant root dip for sweet potato; wheat; millet; poultry or poultry premises; seedling dip/drench for nursery stock; pet premises; pet sleeping quarters; ULV mosquito adulticide; all applications using backpack sprayers
19713-53 | Drexel Carbaryl 10D | All agricultural uses; succulent beans and peas
19713-75 | Drexel Carbaryl Technical | Succulent beans and peas; proso millet
19713-89 | Carbaryl 2L | Succulent beans and peas; preplant dip for sweet potato; indoor applications; ULV mosquito adulticide; all applications using backpack sprayers
19713-212 | Carbaryl 10D | Dust for agricultural use; cotton; succulent beans; poultry; dogs; cats (household pets)
19713-213 | Carbaryl 5D | All agricultural uses; succulent beans and peas
19713-244 | Carbaryl 80 Dust Base | Succulent peas and beans, (subgroup 6B); wheat; millet; poultry; dogs and pets; all indoor uses (domestic dwellings, residential and commercial, barns); formulation into products for dip or drench treatments
19713-363 | Carbaryl 85 Sprayable | Succulent beans and peas; preplant dip for sweet potato; root dip or drench treatments; ULV mosquito adulticide; all applications using backpack sprayers
34704-289 | 10% Sevin® Granules | Pea and bean, succulent shelled (subgroup 6B); leafy vegetables (except Brassica)
34704-447 | Carbaryl 4L | Pea and bean, succulent shelled (subgroup 6B); millet; wheat; preplant root dip for sweet potato; seedling dips or drenches; all indoor applications
71096-15 | Bonide Snail, Slug and Sowbug Bait | Pea and bean, succulent shelled (subgroup 6B); leafy vegetables (except Brassica)
82200-1 | Turf and Garden Seven®% Granular Carbaryl Insecticide | Leafy vegetables (except Brassica)

Table 2 of this unit includes the names and addresses of record for all registrants of the products in Table 1 of this unit, in sequence by EPA company number.

Table 2—Registrants of Cancelled And/or Amended [Carbaryl Products
EPA Company Number | Company Name and Address
239 | The Ortho Business Group, c/o The Scotts Company LLC P.O. Box 190 Marysville, Ohio 43040
264 | Bayer CropScience PO Box 12014 Research Triangle Park, NC 27709
432 | Bayer Environmental Science 2 TW Alexander Drive, PO Box 12014 Research Triangle Park, NC 27709
769 | Value Gardens Supply 9100 W. Bloomington Freeway, Suite 113 Bloomington, MN 55431
829 | Southern Agricultural Insecticides, Inc. P.O. Box 218 Palmetto, Florida 34220
2935 | Wilbur Ellis Company P.O. Box 1286 Fresno, California 93715
5887 | Value Gardens Supply 9100 W. Bloomington Freeway, Suite 113 Bloomington, MN 55431
5905 | Helena Chemical Company 225 Schilling Boulevard, Ste. 300 Collierville, Tenneesee 38017
7401 | Voluntary Purchasing Groups, Inc. P.O. Box 460, 230 FM 87 Bonham, Texas 75418
8119 | Matson, LLC c/o Registrations by Design, Inc. 118 1/2 East Main Street, Ste. 1 Salem, Virginia 24153-3805
9198 | The Andersons Lawn Fertilizer Division, Inc. P.O. Box 119 Maumee, Ohio 43537
11656 | Western Farm Service, Inc. 2787 W. Bullard, Suite 105 Fresno, California 93711
19713 | Drexel Chemical Company 1700 Channel Avenue PO Box 13327 Memphis, TN 38113-0327
34704 | Loveland Products, Inc. 7251 W 4th Street (80634) PO Box 1286 Greely, CO 80632-1286
71096 | Or-Cal, Inc. 17220 Westview Road Oswego, Oregon 97034
82200 | Viachem, LLC 9701 Fields Road, No. 2400 Gaithersburg, Maryland 20878

III. Summary of Public Comments Received and Agency Response to Comments

EPA received four public comments on the August 20, 2008 6(f) Notice (73 FR 49184) and one comment on the October 15 6(f) Notice (73 FR 61121), from Jan Meneley of AgBio Inc., Dr. Steven Booth of Willapa Bay/Grays Harbor Oyster Grower Association, C. Weeber, a private citizen, and from two anonymous private citizens. The comment from C. Weeber requested that EPA evaluate carbaryl use on pine trees in residential areas, which is not one of the uses being deleted, and is therefore not relevant to this action. The comment from Steven Booth focused on the importance of a special local need registration of carbaryl for control of burrowing shrimp in oyster beds in Willapa Bay, WA, which is also not one of the registrations being amended, and is therefore not relevant to this action. The comments received from private citizens requested cancellation of all carbaryl uses, including use to control Mountain Pine Beetle in Colorado, and further testing of carbaryl. These commenters do not, however, object to the deletion of uses or elimination of application methods that are the subject of this order. Nor do these commenters provide information that would lead the Agency to further review or deny the requests. Accordingly, the Agency does not believe that the comments submitted during the comment period merit further review or a denial of the requests for amendments to terminate uses of and eliminate certain application methods for carbaryl products.

IV. Cancellation Order

Pursuant to FIFRA section 6(f), EPA hereby approves the requested amendments to terminate uses of and eliminate certain application methods for carbaryl registrations identified in Table 1 of Unit II. Accordingly, the Agency orders that the carbaryl product registrations identified in Tables 1 of Unit II. are hereby amended to terminate the affected uses and application methods. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation or termination action. The existing stocks provisions of this order terminating uses and eliminating certain application methods are as follows and are effective immediately.

Provided that these stocks bear labels previously approved by EPA, registrants may sell and distribute existing stocks of the affected products for 18 months from the effective date of this order, with the exception of Scotts Ortho Business Group and Matson LLC, who may sell and distribute existing stocks of EPA Registration Numbers 239-2514 and 8119-5, respectively, in Table 1 of Unit II. for 24 months from the effective date of this order. Thereafter the distribution and sale of existing stocks by registrants of any of the products listed in Table 1 that bear the terminated uses or application methods will not be lawful under FIFRA, except for the purposes of shipping such stocks for export consistent with section 17 of FIFRA or for proper disposal. This order allows persons other than the registrant to continue to sell and/or use existing stocks of canceled products until such stocks are exhausted, provided that such use is consistent with the terms of the previously approved labeling on, or that accompanied, the canceled product. This order specifically prohibits any use of existing stocks that is not consistent with such previously approved labeling

.

List of Subjects

Environmental protection, Pesticides and pests, Carbaryl, SEVIN®.

Dated: February 27, 2009.
Richard P. Keigwin, Jr.,
Director, Special Review and Reregistration Division, Office of Pesticide Programs.

[FR Doc. E9-5695 Filed 3-17-09; 8:45 am]

BILLING CODE 6560-50-S